FEDERAL COMMUNICATIONS COMMISSION

Notice of Public Information Collection(s) Being Reviewed by the Federal Communications Commission

June 11, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Written comments should be submitted on or before July 18, 2002. If you anticipate that you will be submitting comments, but find it difficult to do so within the period of time allowed by this notice, you should advise the contact listed below as soon as possible.

ADDRESSES: Direct all comments to Judith Boley Herman, Federal Communications Commission, Room 1-C804, 445 12th Street, SW, DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0795.

Title: Associate WTB Call Signs and Antenna Registration Numbers with Licensee's FRN.

Form No.: FCC Form 606.

Type of Review: Revision of a currently approved collection.

Respondents: Individuals or households, business or other for-profit, state, not-for-profit institutions, and state, local or tribal governments.

Number of Respondents: 429,000.

Estimated Time Per Response: 1 hour.

Frequency of Response: Third party disclosure requirement, on occasion reporting requirement.

Total Annual Burden: 429,000 hours.

Total Annual Cost: N/A.

Needs and Uses: The FCC Form 606 has been revised to make various changes to update the title of the form, mailing and web site addresses, removing the Taxpayer Identification Number (TIN) information and adding FCC Registration Number (FRN) information for licensees and antenna structure owners. The information will be used to populate the Universal Licensing System (ULS) with a unique identifying number (FRN) and require licensees to supply it when doing business with the Commission. This requirement is to facilitate compliance with the Debt Collection Improvement Act of 1996 and the Commission's internal CORES system.

Federal Communications Commission.
Marlene H. Dortch,
Secretary.

[FR Doc. 02-15214 Filed 6-17-02; 8:45 am]

BILLING CODE 6712-01-P